DEPARTMENT OF ENERGY

Federal Energy Regulatory Commission

Combined Notice of Filings #1

Take notice that the Commission received the following exempt wholesale generator filings:

Docket Numbers: EG26-119-000.

Applicants: Midland Cogeneration Venture Limited Partnership.

Description: Midland Cogeneration Venture Limited Partnership submits Notice of Self-Certification of Exempt Wholesale Generator Status.

Filed Date: 12/31/25.

Accession Number: 20251231-5408.

Comment Date: 5 p.m. ET 1/21/26.

Docket Numbers: EG26-120-000.

Applicants: Apache Hill Energy Center, LLC.

Description: Apache Hill Energy Center, LLC submits Notice of Self-Certification of Exempt Wholesale Generator Status.

Filed Date: 12/31/25.

Accession Number: 20251231-5438.

Comment Date: 5 p.m. ET 1/21/26.

Take notice that the Commission received the following Complaints and Compliance filings in EL Dockets:

Docket Numbers: EL26-37-000.

Applicants: Duke Energy Florida, LLC.

Description: Petition for Declaratory Order of Duke Energy Florida, LLC.

Filed Date: 12/29/25.

Accession Number: 20251229-5528.

Comment Date: 5 p.m. ET 1/28/26.

Take notice that the Commission received the following electric rate filings:

Docket Numbers: ER26-87-001.

Applicants: Chaves Energy Storage, LLC.

Description: Tariff Amendment: Amendment to Chaves Energy Storage MBR Application to be effective 12/10/2025.

Filed Date: 12/31/25.

Accession Number: 20251231-5411.

Comment Date: 5 p.m. ET 1/21/26.

Docket Numbers: ER26-88-001.

Applicants: High Majestic Wind Energy II, LLC.

Description: Tariff Amendment: Amendment to High Majestic Wind Energy II MBR Application to be effective 12/10/2025.

Filed Date: 12/31/25.

Accession Number: 20251231-5397.

Comment Date: 5 p.m. ET 1/21/26.

Docket Numbers: ER26-89-001.

Applicants: Lorenzo Wind Energy, LLC.

Description: Tariff Amendment: Amendment to Lorenzo Wind Energy MBR Application to be effective 12/10/2025.

Filed Date: 12/31/25.

Accession Number: 20251231-5403.

Comment Date: 5 p.m. ET 1/21/26.

Docket Numbers: ER26-90-001.

Applicants: Minco Wind Energy IV, LLC.

Description: Tariff Amendment: Amendment to Minco Wind Energy IV MBR Applicaiton to be effective 12/10/2025.

Filed Date: 12/31/25.

Accession Number: 20251231-5416.

Comment Date: 5 p.m. ET 1/21/26.

Docket Numbers: ER26-91-001.

Applicants: Palo Duro Energy Storage, LLC.

Description: Tariff Amendment: Amendment to Palo Duro Energy Storage MBR Application to be effective 12/10/2025.

Filed Date: 12/31/25.

Accession Number: 20251231-5419.

Comment Date: 5 p.m. ET 1/21/26.

Docket Numbers: ER26-92-002.

Applicants: Panhandle Energy Storage, LLC.

Description: Tariff Amendment: Amendment to Panhandle Energy Storage MBR Application to be effective 12/10/2025.

Filed Date: 12/31/25.

Accession Number: 20251231-5429.

Comment Date: 5 p.m. ET 1/21/26.

Docket Numbers: ER26-93-001.

Applicants: Lorenzo Energy Storage, LLC.

Description: Tariff Amendment: Amendment to Lorenzo Energy Storage MBR Applicaiton to be effective 12/10/2025.

Filed Date: 12/31/25.

Accession Number: 20251231-5409.

Comment Date: 5 p.m. ET 1/21/26.

Docket Numbers: ER26-94-001.

Applicants: Pratt Wind Energy, LLC.

Description: Tariff Amendment: Amendment to Pratt Wind Energy MBR Application to be effective 12/10/2025.

Filed Date: 12/31/25.

Accession Number: 20251231-5420.

Comment Date: 5 p.m. ET 1/21/26.

Docket Numbers: ER26-95-001.

Applicants: Roswell Energy Storage, LLC.

Description: Tariff Amendment: Amendment to Roswell Energy Storage MBR Application to be effective 12/10/2025.

Filed Date: 12/31/25.

Accession Number: 20251231-5424.

Comment Date: 5 p.m. ET 1/21/26.

Docket Numbers: ER26-96-001.

Applicants: Webb Road Energy Storage, LLC.

Description: Tariff Amendment: Amendment to Webb Road Energy Storage MBR Application to be effective 12/10/2025.

Filed Date: 12/31/25.

Accession Number: 20251231-5426.

Comment Date: 5 p.m. ET 1/21/26.

Docket Numbers: ER26-97-001.

Applicants: Wildcat Ranch Wind Energy, LLC.

Description: Tariff Amendment: Amendment to Wildcat Ranch Wind Energy MBR Application to be effective 12/10/2025.

Filed Date: 12/31/25.

Accession Number: 20251231-5427.

Comment Date: 5 p.m. ET 1/21/26.

Docket Numbers: ER26-933-000.

Applicants: New England Power Pool Participants Committee.

Description: 205(d) Rate Filing: Jan 2025 Membership Filing to be effective 12/1/2025.

Filed Date: 12/31/25.

Accession Number: 20251231-5440.

Comment Date: 5 p.m. ET 1/21/26.

Docket Numbers: ER26-934-000.

Applicants: American Transmission Systems, Incorporated.

Description: 205(d) Rate Filing: ATSI submits a new Construction Agmt—SA No. 7266 to be effective 3/4/2026.

Filed Date: 1/2/26.

Accession Number: 20260102-5042.

Comment Date: 5 p.m. ET 1/23/26.

Docket Numbers: ER26-935-000.

Applicants: PJM Interconnection, L.L.C.

Description: 205(d) Rate Filing: Original NSA, Service Agreement No. 7792; AE1-079 to be effective 3/4/2026.

Filed Date: 1/2/26.

Accession Number: 20260102-5097.

Comment Date: 5 p.m. ET 1/23/26.

Docket Numbers: ER26-936-000.

Applicants: Alabama Power Company, Georgia Power Company, Mississippi Power Company.

Description: Tariff Amendment: Alabama Power Company submits tariff filing per 35.15: Shy Place Solar Park (Solar & Battery) LGIA Termination Filing to be effective 1/2/2026.

Filed Date: 1/2/26.

Accession Number: 20260102-5108.

Comment Date: 5 p.m. ET 1/23/26.

Docket Numbers: ER26-937-000.

Applicants: Alabama Power Company, Georgia Power Company, Mississippi Power Company.

Description: Tariff Amendment: Alabama Power Company submits tariff filing per 35.15: Centaurus Solar Amended and Restated LGIA Termination Filing to be effective 1/2/2026.

Filed Date: 1/2/26.

Accession Number: 20260102-5123.

Comment Date: 5 p.m. ET 1/23/26.

Docket Numbers: ER26-938-000.

Applicants: Alabama Power Company, Georgia Power Company, Mississippi Power Company.

Description: 205(d) Rate Filing: Alabama Power Company submits tariff filing per 35.13(a)(2)(iii: Georgia Power-Twiggs County Solar (Twiggs BESS) SISA Filing to be effective 12/23/2025.

Filed Date: 1/2/26.

Accession Number: 20260102-5150.

Comment Date: 5 p.m. ET 1/23/26.

Docket Numbers: ER26-939-000.

Applicants: PJM Interconnection, L.L.C.

Description: 205(d) Rate Filing: Amendment to ISA, SA No. 4055; Project Queue #Z2-082 to be effective 3/1/2024.

Filed Date: 1/2/26.

Accession Number: 20260102-5179.

Comment Date: 5 p.m. ET 1/23/26.

Docket Numbers: ER26-940-000.

Applicants: NorthWestern Corporation.

Description: 205(d) Rate Filing: SA 1022—EPC with Idaho Power to be effective 3/4/2026.

Filed Date: 1/2/26.

Accession Number: 20260102-5252.

Comment Date: 5 p.m. ET 1/23/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated: January 2, 2026.
Debbie-Anne A. Reese,
Secretary.

[FR Doc. 2026-00080 Filed 1-6-26; 8:45 am]

BILLING CODE 6717-01-P